NUCLEAR REGULATORY COMMISSION

[Docket No. 50-412]

Pennsylvania Power Company, Ohio Edison Company, FirstEnergy Nuclear Operating Company, Beaver Valley Power Station, Unit No. 2; Environmental Assessment and Finding of No Significant Impact

The U.S. Nuclear Regulatory Commission (NRC) is considering issuance of an exemption from Title 10 of the Code of Federal Regulations (10 CFR), Section 54.17(c), for Facility Operating License No. NPF-73, issued to FirstEnergy Nuclear Operating Company (the licensee), for operation of the Beaver Valley Power Station, Unit No. 2 (BVPS-2), located in Beaver County, Pennsylvania. Therefore, as required by 10 CFR 51.21, the NRC is issuing this environmental assessment and finding of no significant impact.

Environmental Assessment

Identification of the Proposed Action

The proposed action would exempt the licensee from the requirement of 10 CFR 54.17(c), which specifies that an applicant (for the purposes of license renewal the licensee is the applicant) may apply for a renewed operating license no earlier than 20 years before the expiration of the operating license currently in effect.

The proposed action is in accordance with the licensee's application for an exemption dated December 17, 2001.

The Need for the Proposed Action

In accordance with 10 CFR 54.17(c), the earliest date that the applicant could apply for a renewed operating license for BVPS-2 would be May 28, 2007. The proposed action would allow the applicant to file a license renewal application for BVPS-2 concurrent with the renewal application for Beaver Valley Power Station Unit No. 1 (BVPS-1), which has less than 20 years before expiration of its current operating license on January 29, 2016. The request seeks only schedular relaxation without any other substantive reliefs.

Environmental Impacts of the Proposed Action

The NRC has completed its evaluation of the proposed action and concludes that the issuance of the proposed exemption will not have a significant environmental impact. The exemption, if granted, will permit the applicant to apply for renewal of the BVPS-2 license sooner than the schedule specified by 10 CFR 54.17(c). When the applicant does apply for license renewal, the environmental impacts of operating the Beaver Valley units under the renewed licenses will then be submitted by the applicant and evaluated by the staff. In short, granting of the exemption will not necessitate, or lead to, changes to the as-built plant design, or to existing procedures at BVPS-2.

The NRC staff evaluated potential radiological environmental impacts associated with granting the requested exemption. Since no plant design or procedure changes will be made, no new accident causal mechanisms would be introduced.

The proposed action will not significantly increase the probability or consequences of accidents, no changes are being made in the types of any effluents that may be released off site, and there is no significant increase in occupational or public radiation exposure. Therefore, there are no significant radiological environmental impacts associated with the proposed action.

With regard to the potential non-radiological impacts, the proposed action does not have a potential to affect any historic sites. The proposed action involves no plant design or procedure changes, it does not increase or decrease non-radiological plant effluents, and has no other environmental impact from those previously evaluated by the NRC staff in the Final Environmental Statement (FES) for BVPS-2 dated September 1985. Therefore, there are no significant non-radiological environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the FES for BVPS-2 dated September 1985.

Agencies and Persons Consulted

In accordance with its stated policy, on March 20, 2002, the NRC staff consulted with Pennsylvania State official, Larry Ryan, Bureau of Radiation Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's request for exemption dated December 17, 2001. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the internet at the NRC Web site, http://www.nrc.gov/reading-rm/adams/html. Persons who do not have access to ADAMS or who encounter problems in accessing the documents located in ADAMS, should contact the NRC PDR Reference staff by telephone at 1-800-397-4209 or 301-415-4737, or by e-mail to pdr@nrc.gov.

Dated at Rockville, Maryland, this 3rd day of May 2002.
For the Nuclear Regulatory Commission.
Daniel Collins,
Project Manager, Section 1, Project Directorate I, Division of Licensing Project Management, Office of Nuclear Reactor Regulation.

[FR Doc. 02-11622 Filed 5-8-02; 8:45 am]

BILLING CODE 7590-01-P